FEDERAL COMMUNICATIONS COMMISSION

47 CFR Part 73

[DA 01-1543; MM Docket No. 00-159; RM-9889]

Radio Broadcasting Services; Thermopolis and Story, WY

AGENCY: Federal Communications Commission.

ACTION: Final rule.

SUMMARY: The Commission, at the request of Legend Communications of Wyoming, L.L.C. (formerly Idaho Broadcasting Consortium, Inc.), substitutes Channel 252C1 for Channel 252C2 at Thermopolis, Wyoming, reallots Channel 252C1 from Thermopolis to Story, Wyoming, and modifies Station KHWC(FM)'s construction permit accordingly. See 65 FR 55930, September 15, 2000. Channel 252C1 can be reallotted to Story in compliance with the Commission's minimum distance separation requirements without the imposition of a site restriction at petitioner's requested site. The reference coordinates for Channel 252C1 at Story are 44-34-28 North Latitude and 106-52-14 West Longitude.

DATES: Effective August 13, 2001.

FOR FURTHER INFORMATION CONTACT: Sharon P. McDonald, Mass Media Bureau, (202) 418-2180.

SUPPLEMENTARY INFORMATION: This is a synopsis of the Commission's Report and Order, MM Docket No. 00-159, adopted June 20, 2001, released June 29, 2001. The full text of this Commission decision is available for inspection and copying during normal business hours in the FCC Reference Information Center (Room CY-A257), 445 12th Street, SW., Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—RADIO BROADCAST SERVICES

1. The authority citation for part 73 continues to read as follows:

Authority: 47 U.S.C. 54, 303, 334, and 336.

§ 73.202 [Amended]

2. Section 73.202(b), the Table of FM Allotments under Wyoming, is amended by adding Story, Channel 252C1; and by removing Channel 252C2 at Thermopolis.

Federal Communications Commission.
John A. Karousos,
Chief, Allocations Branch, Policy and Rules Division, Mass Media Bureau.

[FR Doc. 01-17665 Filed 7-13-01; 8:45 am]

BILLING CODE 6712-01-P